FEDERAL COMMUNICATIONS COMMISSION

47 CFR PART 11

[DA 00-755]

Emergency Alert System

AGENCY: Federal Communications Commission.

ACTION: Final rule.

SUMMARY: This document revises part 11 of the Commission's rules governing the Emergency Alert System (EAS) to remove certain rule provisions which are obsolete and to make minor editorial revisions.

DATES: Effective April 24, 2000.

FOR FURTHER INFORMATION CONTACT: Kathy Berthot, Enforcement Bureau, Technical and Public Safety Division, (202) 418-1454.

SUPPLEMENTARY INFORMATION: This is a summary of the Order of the Commission's Managing Director, DA 00-755, adopted on March 31, 2000, and released on April 4, 2000. The complete text of this Order is available for inspection and copying during normal business hours in the FCC Reference Information Center, Courtyard Level, 445 12th Street, SW, Washington, D.C., and also may be purchased from the Commission's copy contractor, International Transcription Services, Inc., at 202-857-3800, CY-B400, 445 12th Street, SW, Washington, D.C.

The Order amends part 11 to remove references to the EAS authenticator lists, which have been discontinued by the Commission. The EAS authenticator lists were lists of words distributed annually by the Commission to the White House Communications Agency (WHCA), the Federal Emergency Management Agency (FEMA), and all EAS participants. The lists were used by EAS participants to authenticate national-level EAS messages prior to activation of the EAS. The Commission discontinued the EAS authenticator lists in 1998, after consultation with FEMA and WHCA, because the new EAS equipment which must be used by broadcast stations and cable operators can process EAS messages automatically without the need for human intervention and authentication.

Additionally, the Order removes references to the required weekly tests of the old Emergency Broadcast System Attention Signal from the part 11 rules because, effective January 1, 1997, broadcast stations are no longer required to conduct those tests. Furthermore, the Order makes minor editorial revisions to the part 11 rules to reflect the shift of responsibility for the EAS from the Commission's Compliance and Information Bureau, which has been eliminated, to the recently established Enforcement Bureau.

As the Order merely removes obsolete rule provisions and makes minor editorial revisions to the rules, the Commission finds good cause to conclude that notice and comment procedures are unnecessary. 5 U.S.C. 553(b)(3)(B). Since a general notice of proposed rulemaking is not required, the Regulatory Flexibility Act does not apply.

The actions taken in the Order have been analyzed with respect to the Paperwork Reduction Act of 1995 and found to impose no new or modified reporting and recordkeeping requirements or burdens on the public.

List of Subjects in 47 CFR Part 11

Radio, Television.

Federal Communications Commission.

Andrew S. Fishel,
Managing Director.

Rule Changes

For the reasons discussed in the preamble, the Federal Communications Commission amends 47 CFR part 11 as follows:

PART 11—EMERGENCY ALERT SYSTEM (EAS)

1. The authority citation for Part 11 continues to read as follows:

Authority: 47 U.S.C. 151, 154(i) and (o), 303(r), 544(g) and 606.

§ 11.11 [Amended]

2. Section 11.11 is amended by removing footnotes 4 and 5 in the Timetable for Broadcast Stations.

§ 11.17 [Removed]

3. Section 11.17 is removed.

4. Section 11.21 is amended by revising the introductory text to read as follows:

§ 11.21 State and local area plans and FCC mapbook.

EAS plans contain guidelines which must be followed by broadcast and cable personnel, emergency officials and National Weather Service (NWS) personnel to activate the EAS. The plans include the EAS header codes and messages that will be transmitted by key EAS sources (NP, LP, SP and SR). State and local plans contain unique methods of EAS message distribution such as the use of RBDS. The plans must be reviewed and approved by the Chief, Technical and Public Safety Division, Enforcement Bureau, prior to implementation to ensure that they are consistent with national plans, FCC regulations, and EAS operation.

* * * * *

5. Section 11.41 is amended by revising paragraph (c) to read as follows:

§ 11.41 Participation in EAS.

* * * * *

(c) All sources, including NN, must have immediate access to an Operating Handbook. They should contact the FCC to ensure that they are on the FCC EAS mailing list.

6. Section 11.47 is amended by revising paragraph (b) to read as follows:

§ 11.47 Optional use of other communications methods and systems.

* * * * *

(b) Other technologies and public service providers, such as DBS, low earth orbiting satellites, etc., that wish to participate in the EAS may contact the FCC's Technical and Public Safety Division, Enforcement Bureau, or their State Emergency Communications Committee for information and guidance.

§ 11.54 [Amended]

7. Section 11.54 is amended by removing paragraph (b)(2) and redesignating paragraphs (b)(3) through (b)(15) as paragraphs (b)(2) through (b)(14).

8. Section 11.55 is amended by revising paragraph (c)(4) to read as follows:

§ 11.55 EAS operation during a State or Local Area emergency.

* * * * *

(c) * * *

(4) Broadcast stations, cable systems and wireless cable systems participating in the State or Local Area EAS must discontinue normal programming and follow the procedures in the State and Local area plans. Television stations must comply with § 11.54(b)(6) and cable systems and wireless cable systems must comply with § 11.54(b)(7). Broadcast stations providing foreign language programming shall comply with § 11.54(b)(8).

* * * * *

9. Section 11.61 is amended by removing paragraph (a)(2)(i), redesignating paragraphs (a)(2)(ii) through (a)(2)(v) as (a)(2)(i) through (a)(2)(iv), and revising paragraph (a)(6) to read as follows:

§ 11.61 Tests of EAS procedures.

(a) * * *

(6) EAS activations and special tests. The EAS may be activated for emergencies or special tests at the State or Local Area level by a broadcast station, cable system or wireless cable system instead of the monthly or weekly tests required by this section. To substitute for a monthly test, activation must include transmission of the EAS header codes, Attention Signal, emergency message and EOM code and comply with the visual message requirements in § 11.51. To substitute for the weekly test of the EAS header codes and EOM codes in paragraph (a)(2)(i) of this section, activation must include transmission of the EAS header and EOM codes. Television stations and cable systems and wireless cable systems shall comply with the aural and visual message requirements in § 11.51. Special EAS tests at the State and Local Area levels may be conducted on a daily basis following procedures in State and Local Area EAS plans.

* * * * *

10. Section 11.62 is amended by revising paragraphs (d) and (e)(2) to read as follows:

§ 11.62 Closed circuit tests of national level EAS facilities.

* * * * *

(d) Test announcements will originate from a point selected by the White House with program feed circuitry connected to the telephone company Toll Test Center at points coordinated for each test. Participating common carriers will connect, as required, the facilities of the radio networks and other test participants. Telephone companies are not authorized to add any participating independent broadcast stations unless authorized by the FCC. Authentication will be provided to the Toll Test Center or other program entry location responsible for test arrangements.

(e) * * *

(2) Recipients immediately monitor their radio network, and if participating, their television network or cable system, and check their wire service for the receipt of the CCT Activation Message.

* * * * *

[FR Doc. 00-10092 Filed 4-21-00; 8:45 am]

BILLING CODE 6712-01-P